DEPARTMENT OF DEFENSE

Department of the Navy

[Docket ID: USN-2023-HQ-0022]

Proposed Collection; Comment Request

AGENCY: Department of the Navy (DON), Department of Defense (DoD).

ACTION: 60-Day information collection notice.

SUMMARY: In compliance with the Paperwork Reduction Act of 1995, the DON announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 22, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the DON Information Management Control Officer, 2000 Navy Pentagon, Rm. 4E563, Washington, DC 20350, ATTN: Ms. Sonya Martin, or call 703-614-7585.

SUPPLEMENTARY INFORMATION:

Title; Associated Form; and OMB Number: Naval Officers as Employees Survey; OMB Control Number: 0703-SDSU.

Needs and Uses: The proposed survey is sponsored by the Navy Chief of Information and originates out of the Navy's primary civilian public relations graduate education program at San Diego State University, where the Navy details public affairs officers annually in order to earn a master's degree. This study will explore the possible relationship between the Navy's digital communication subsidies, employee-organization relationships (EOR), and diversity, equity, inclusion, and belongingness (DEIB) in the officer ranks. Additionally, findings from this research may advance the Navy's understanding of how to use digital communication to improve DEIB and EOR in the officer corps. Only adults (those aged 18 years or older) are eligible to participate in the study. To get at this population, the researcher will study naval officers assigned to different types of units (e.g., surface ships, aviation, submarines, special warfare, etc.) as they represent the key demographic desired for this study. Potential respondents will be recruited with the assistance of public affairs officers at type commands (TYCOMs) and fleets of these units. TYCOMs and fleets perform administrative, personnel, and operational training functions for a “type” of weapon system.

This study will employ a mixed-mode for collection of surveys, utilizing both an online survey hosted by Qualtrics and a paper-based survey method for when online completion of the survey is not ideal. Respondents will have an option to return the survey anonymously via mail. Data received from this survey will assist public relations researchers by gaining an understanding of EOR and DEIB in Naval officers from traditionally marginalized communities as well as advance employee-organization relationship theory.

Affected Public: Individuals or households.

Annual Burden Hours: 150.

Number of Respondents: 500.

Responses per Respondent: 1.

Annual Responses: 500.

Average Burden per Response: 18 minutes.

Frequency: Once.

Dated: November 14, 2023.
Aaron T. Siegel,
Alternate OSD Federal Register Liaison Officer, Department of Defense.

[FR Doc. 2023-25791 Filed 11-21-23; 8:45 am]

BILLING CODE 6001-FR-P